DEPARTMENT OF JUSTICE

National Institute of Corrections

Solicitation for a Cooperative Agreement—Transition From Prison to Community (TPC)

AGENCY: National Institute of Corrections, Department of Justice.

ACTION: Solicitation for a Cooperative Agreement.

SUMMARY: Helping offenders make a successful transition from prison back into the community has been the focus of much interest in recent years. In 2001, the National Institute of Corrections (NIC) launched its Transition From Prison to the Community (TPC) initiative to bring the best of practical thinking and research knowledge to this issue. The goal was to articulate a comprehensive and strategic approach to transition that incorporates the lessons of evidence-based practice, emphasizes the importance of collaboration, and provides a practical tool for use by corrections agencies and their governmental and community partners. The TPC model was developed and NIC is now bringing to conclusion extensive implementation assistance to a first set of eight states. The TPC Reentry Handbook (see “Background”) provides a thorough record of that initiative and what has been learned so far. Building specifically on NIC's efforts to date, this cooperative agreement award will deliver TPC technical assistance to a new set of approximately six states and the provider, in conjunction with NIC, and will continue to advance the model and develop products that can assist non-participating jurisdictions who have an interest in TPC implementation.

Since a system change initiative of this scale and scope is complex and time consuming it is expected that new states will require TPC assistance for three years. This initial 12-month phase is expected to be followed by 12 month funding from each of the next two fiscal years for a full 36-month project duration. However, year's two and three funding is subject to satisfactory performance by the provider and availability of funds for NIC to make subsequent TPC continuation awards. Therefore, applications will be reviewed specifically for the “Year One” proposal and work plan, as well as vision and demonstrated competence to complete necessary subsequent year tasks like document development and electronic dissemination of information to non-participating jurisdictions.

DATES: Applications must be received by 4 p.m. EDT on Monday, March 9, 2009.

ADDRESSES: Mailed applications must be sent to: Director, National Institute of Corrections, 320 First Street, NW., Room 5007, Washington, DC 20534. Applicants are encouraged to use Federal Express, UPS, or similar service to ensure delivery by the due date.

Hand delivered applications should be brought to 500 First Street, NW., Washington, DC 20534. At the front desk, dial 7-3106, extension 0 for pickup.

Faxed applications will not be accepted. Electronic applications can be submitted via http://www.grants.gov.

FOR FURTHER INFORMATION CONTACT: To ensure that all potential applicants have access to the same information, all questions concerning the background and expectations of work to be performed will be addressed only at the WebEx conference and Web page posting as explained in the following paragraph. Other questions concerning this announcement should be directed to Kermit Humphries, Correctional Program Specialist, National Institute of Corrections. He can be reached by calling 202-514-0118, or by e-mail at khumphries@bop.gov.

A WebEx conference will be conducted on February 12, 2009 at 2 p.m. EDT, for persons having a serious intent to respond to this solicitation. In this conference, NIC project managers will respond to questions regarding the solicitation and expectation of work to be performed. Please notify Kermit Humphries electronically (khumphries@bop.gov) by 12 noon EDT on February 9, 2009, if you wish to participate in the conference. By return e-mail you will be provided with a Web address and access code, and when logging into the session you will also receive a toll free telephone number to call. (WebEx conferences require simultaneous computer and telephone access, and essentially function as a conference call where everyone can view documents and text at the same time.) In addition, NIC project managers will post answers on its Web site to questions received from potential applicants during the WebEx conference, as well as any questions that are e-mailed between the time of the WebEx conference and the application due date.

SUPPLEMENTARY INFORMATION: Overview: Nearly 700,000 prisoners are released from state or federal prisons each year, at least 95% of all inmates confined today will some day be released. State prisoners are expected to serve on average about 2.5 years. Almost 80% of persons released from prison will have some parole supervision in the community. Many will be re-arrested within a short time after their release and about two-thirds can be expected to return to prison within three years for committing either technical violations of their release or a new crime. At a time when prisons are full and budgets are in crisis, states and communities are looking for more effective and efficient ways to manage the offender population as they transition through the prison system and back into local communities.

Some states have demonstrated encouraging progress in changing their systems to promote offender success following release. Their success is attributed to policy direction from the highest levels of government, collaboration within government and with community based organizations, use of effective assessment tools, and programming that is based on research and “risk reduction” evidence based practices. More is being learned each day about how states can more effectively manage the return of offenders to the community through a shared ownership of the problem and solutions involving numerous agencies and organizations. The best answers are found when there is a strategic system change initiative involving true collaboration between corrections, health and human services, employment services, and other agencies of government, community and faith based organizations. This appears to be a highly complex endeavor, but in reality its component parts are commonly known and achievable. The TPC model is designed to assist jurisdictions address necessary elements in a way that responds to their particular needs and interests.

Background: NIC has been funding a Transition from Prison to the Community (TPC) initiative since FY 2000. Recognizing that most persons in custody will be released in a relatively brief time, and most are “clients” of both corrections AND other publicly funded agencies/providers, corrections and human service functions are working jointly to better prepare offenders and communities for the inevitable release from confinement. “Reentry” and “transition” are the two terms commonly used to describe the numerous activities and programs. Successful reentry is paramount to improving the safety of our communities and breaking the cycle of recidivism. Crucial to achieving system changes at both state and community levels is policy directed collaboration between prisons, the paroling authority, the post-release supervision agency and the myriad of other government and community-based organizations providing health, transportation, housing, and employment.

The NIC Web site includes extensive NIC transition information and contains critical background material for potential applicants. Those requiring hard copies of the documents may contact the NIC Information Center at 1-800-877-1461 and request that copies be mailed.

The Web address for TPC material is http://nicic.gov/TPCModel. Of greatest importance, at http://nicic.gov/Library/022669 is a PDF of the TPC Reentry Handbook: Implementing the NIC Transition from Prison to the Community Model. This document not only fully explains the TPC model and process, but it is essential for applicants to understand that this document has been specifically designed to serve as a primary technical assistance tool for assistance to states to be served by this award.

Purpose: Public safety through reduced crimes committed following release from Prison is the primary value that drives this work. This initiative is to establish through system level policies and procedures a model approach for transitioning individuals from prison back into their communities. The model brings together a state's top prison leadership, paroling authority, supervision agency, employment services, public and private human service providers, faith based programs, elected officials and other interested parties for joint development of policies and procedures affecting the custody, release, and supervision of individuals targeted for this transition initiative. NIC has worked extensively in the area of Offender Risk Reduction and those initiatives are clearly related to the TPC Purpose. Applicants should be conversant with the Reducing Offender Risk material located on the NIC Web page at http://nicic.gov/ReducingOffenderRisk.

Scope of Work and Specific Requirements: Goals of the TPC include improved public safety by reducing the threat of harm to persons and property by released offenders in communities to which they return, and increased success rates of offenders who transition from prisons into the community by fostering effective treatment programming that reduces offender's risk of violating laws upon release, accountability for both offender and system officials, and community and victim involvement. Appropriate use of dynamic assessment of risk and needs is a critical component of the model, as well as a commitment to ongoing use of evidence-based principles for behavior change.

It is expected that the Transition from Prison to the Community (TPC) award components will include:

In conjunction with NIC, announce the opportunity and select approximately six state jurisdictions that are ready to make effective use of TPC assistance;

Deliver technical assistance to participating jurisdictions on-site, supplemented by use of distance technologies when feasible and/or cost effectiveness;

The application must carefully describe the types and frequency of technical assistance activities proposed;

Enhance the TPC Model: The cooperative agreement provider will offer expertise, facilitation, documentation and staff/consultant support activities to improve and enhance the TPC model and methods for effective implementation;

Evaluation and use of data: This is primarily a technical assistance award, but data collection, use of performance measures, and evaluation must be a key component of the work plan. Time and resources will not allow a full outcome evaluation, but the application must include a detailed research design for gathering performance and intermediate outcome data, conducting process evaluations, making regular reports, and providing technical assistance to the sites so that they develop the capacity to collect and use information over time. A key component will be an evaluation to determine the impact of TPC activities on Prisons/communities in terms of performance measures and intermediate outcomes, and;

Develop products to share learning: Recognizing that NIC can only provide direct assistance to a very small portion of all the states, prisons and communities, the applicant must identify needs and develop outreach tools similar to the TPC Reentry Handbook, on-line training modules, publishable monographs and written or electronic articles.

Depending on proposed work plans, it is likely that at least part of the above items will be products of future awards, funding permitted. However, the application should discuss a general strategy for addressing all components and propose a specific work plan for this initial 12-month award.

No jurisdictions have yet been identified as participants. The applicants' work plan should propose how competitive selections will be solicited, and participant selections will be made in conjunction with NIC. While TPC is generally discussed as a “state prison to community initiative”, the principles may apply to federal, territorial or Indian nation systems as well. Such systems may be considered for participation.

Significant TPC challenges and issues for this initiative include the following items: Assessment tools; Evidence based practices; Individualized case management planning; Prison based programs and strategies; Community based programs and strategies; Coordination and cooperation between prisons and public/private human services agencies/groups; TPC challenges from the state corrections Director/commissioner perspective, the prison administrator perspective, and from perspectives of other governmental human services agencies; from not for profit, NGO's and other community agency perspectives; Local/state implications for TPC, including the TPC role and involvement of local criminal justice decision makers and TPC opportunities and consequences related to local probation violation practices; Distances between the prisons and communities where offenders will be released; and “Hard and soft” information system processes and needs. Additional prison/community transition issues may be identified by the applicant.

The applicant must prioritize and address at minimum five challenges/issues from the above paragraph. Explain the criteria used for prioritizing your challenges/issues. Also, the applicant must explain why each challenge/issue described is important, propose strategies for successfully addressing each challenge/issues and propose how the impact of each challenge/issue could be measured.

Specific Requirements:

Document Preparation—For all awards in which a document will be a deliverable, the awardee must follow the Guidelines for Preparing and Submitting Manuscripts for Publication as found in the “General Guidelines for Cooperative Agreements” which will be included in the award package.

Distance Technology—NIC is committed to supplementing on-site technical assistance by using distance technology when it can be used effectively and efficiently for meetings, training or technical assistance. It is expected that shortly after award, the recipient will be/become proficient in the use of NIC's application sharing and conferencing service (WebEx) that may be used for such things as presentations, demonstrations, training, and support services to TPC participant sites. Examples where it might be used effectively by TPC include project team meetings when staff are not co-located, preparation for or follow-up to in-person site visits, or providing PowerPoint training on an aspect of TPC to multiple project sites with similar needs. Through an existing contract, NIC will make Web-Ex resources and support available at no cost to the TPC provider. Applicants must discuss how they propose to use distance meeting and training strategies within the scope of the RFP. General information about the platform used by NIC (WebEx) can be found by going to http://webex.com/. Applicants may also review the NIC site at https://nic.webex.com/mw0305l/mywebex/default.do?siteurl=nic.

Application Requirements: Applications should be concisely written, typed double-spaced and reference the project by the “NIC Application Number” 09K112, and Title: “Transition From Prison to Community (TPC).” The package must include: A cover letter that identifies the audit agency responsible for the applicant's financial accounts as well as the audit period or fiscal year that the applicant operates under (e.g., July 1 through June 30); a budget narrative explaining projected costs; and a program narrative in response to the statement of work. The program narrative must be fewer than 15 pages in length, but there is no limit placed on the length of proposed staff résumés, or listings of organizational experience. The following forms must also be included: OMB Standard Form 424, Application for Federal Assistance; OMB Standard Form 424A, Budget information—Non-Construction Programs; OMB Standard Form 424B, Assurances—Non-Construction Programs (these forms are available at http://www.grants.gov) and DOJ/NIC Certification Regarding Lobbying; Debarment, Suspension and Other Responsibility Matters; and the Drug-Free Workplace Requirements (available at http://www.nicic.gov/Downloads/PDF/certif-frm.pdf.)

Applications may be submitted in hard copy, or electronically via http://www.grants.gov. If submitted in hard copy, there needs to be an original and six copies of the full proposal (program and budget narratives, application forms and assurances). The original should have the applicant's signature in blue ink. All potential applicants are reminded that the only opportunity to receive clarifying information about this solicitation is described earlier under the heading FOR FURTHER INFORMATION CONTACT.

Authority: Public Law 93-415.

Funds Available: NIC is seeking the applicant's best ideas regarding accomplishment of the scope of work and the related costs for achieving the goals of this solicitation. The final budget and award amount will be negotiated between NIC and the successful applicant. Applications will be accepted for the 12-month award for amounts up to $400,000 (direct and indirect costs). Funds may only be used for the activities that are linked to the desired outcome of the project. No funds are transferred to state or local governments. Supplemental awards for up to two additional years (a TPC project duration not to exceed three fiscal years) are possible based upon satisfactory performance of the awardee and upon the availability of funding in future years.

This project will be a collaborative venture with the NIC Transition/Offender Workforce Development Division.

Eligibility of Applicants: An eligible applicant is any public or private agency, educational institution, organization, individual or team with expertise in the described areas.

Review Considerations: Applications received under this announcement will be subjected to a 3 to 5 person NIC Peer Review Process.

Note: NIC will NOT award a cooperative agreement to an applicant who does not have a Dun and Bradstreet Database Universal Number (DUNS) and is not registered in the Central Contractor Registry (CCR).

A DUNS number can be received at no cost by calling the dedicated toll-free DUNS number request line at 1-800-333-0505 (if you are a sole proprietor, you would dial 1-866-705-5711 and select option 1).

Registration in the CCR can be done online at the CCR Web site: http://www.ccr.gov. A CCR Handbook and worksheet can also be reviewed at the Web site.

Number of Awards: One.

NIC Application Number: 09K112. This number should appear as a reference line in the cover letter, in box 4a of Standard Form 424, and outside of the envelope in which the application is sent.

Catalog of Federal Domestic Assistance Number 16.603 (Technical Assistance/Clearinghouse).

Executive Order 12372: This program is subject to the provisions of Executive Order 12372. E.O. 12372 allows states the option of setting up a system for reviewing applications from within their states for assistance under certain Federal programs. Applicants (other than Federally recognized Indian tribal governments) should contact their State Single Point of Contact (SPOC), a list of which can be found at http://www.whitehouse.gov/omb/grants/spoc.html.

Morris Thigpen,
Director, National Institute of Corrections.

[FR Doc. E9-1283 Filed 1-22-09; 8:45 am]

BILLING CODE 4410-36-P